DEPARTMENT OF JUSTICE

Antitrust Division

Notice Pursuant to the National Cooperative Research and Production Act of 1993—Interchangeable Virtual Instruments Foundation, Inc.

Notice is hereby given that, on May 29, 2001, pursuant to Section 6(a) of the National Cooperative Research and Production Act of 1993, 15 U.S.C. 4301 et seq. (“the Act”), Interchangeable Virtual Instruments Foundation, Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Advantest Corporation, Shinjuku-ku, Tokyo, JAPAN; Agilent Technologies, Loveland, CO; ASCOR, Fremont, CA; BAE Systems, Edinburgh, UNITED KINGDOM; BCO, Inc., Billerica, MA; Bode Enterprises, San Diego, CA; C&H Technologies, Round Rock, TX; Ericsson Radio Systems, Aktie Bolag, Gevle, SWEDEN; Keithley Instruments, Cleveland, OH; LeCroy, Chestnut Ridge, NY; Lucent Technologies, Columbus, OH; National Instruments, Austin, TX; Nokia Mobile Phones, Inc., San Diego, CA; Northrop Grumman ESSS, Baltimore, MD; Pacific MindWords, Inc., San Diego, CA; PX Instrument Technology, Bray, County Wicklow, IRELAND; Racal Instruments Inc., San Antonio, TX; Rohde & Schwarz, Muehldorfstr, Munich, GERMANY; Software AG, San Ramon, CA; Tektronix, Beaverton, OR; Teradyne, North Reading, MA; The Boeing Company, Seattle, WA; The MathWorks, Inc., Natick, MA; TYX, Reston, VA; and Vektrex Electronic Systems, San Diego, CA.

The nature and objectives of the venture are: (a) to promote the development and adoption of standard specifications for programming test instrument capabilities (“Specifications”); (b) to focus on the needs of the people that use and develop test systems who must take off-the-shelf instrument drivers and build and maintain high-performance test systems; (c) to build on existing industry standards to deliver specifications that simplify interchanging instruments and provide for better performing and more easily maintainable programs that use IVI drivers; (d) to support such specifications and solutions worldwide to ensure that a broad spectrum of goods and services is developed and available; (e) to investigate and, if approved by the Board of Directors, participate in a program to provide for testing and conformity assessment of products implementing Specifications; (f) to create and own distinctive trademarks; (g) to operate a branding program based upon distinctive trademarks to create high customer awareness of, demand for, and confidence in products designed in compliance with the Specifications; and (h) to undertake such other activities as may from time to time be appropriate to further the purposes and achieve the goals set forth above.

Constance K. Robinson,
Director of Operations, Antitrust Division.

[FR Doc. 01-18906 Filed 7-27-01; 8:45 am]

BILLING CODE 4410-11-M